NATIONAL SCIENCE FOUNDATION

Advisory Committee for GPRA Performance Assessment; Notice of Meeting

In accordance with the Federal Advisory Committee Act (Pub. L. 92-463, as amended) the National Science Foundation announces the following meeting.

Name: Advisory Committee for GPRA Performance Assessment (AC/GPA)-(13853).

Date and Time: June 18, 2009, 8 a.m.-5 p.m.; June 19, 2009, 8 a.m.-3 p.m.

Place: National Science Foundation, 4201 Wilson Boulevard, Arlington, VA 22230, Room 555II.

If you are attending the meeting and need access to the NSF building, please contact Joyce Grainger (jgrainge@nsf.gov) for a visitor's badge.

Contact: Ms. Joyce Grainger, BFA/BD, National Science Foundation, jgrainge@nsf.gov. Telephone: 703-292-4481.

Type of Meeting: Open.

Purpose of Meeting: To provide advice and recommendations to the National Science Foundation (NSF) Director regarding the Foundation's performance as it relates to the Government Performance and Results Act of 1993 (GPRA).

Agenda: Presentations and discussion of topics regarding the assessment of accomplishments of NSF awards as they relate to three strategic outcome goals stated in the National Science Foundation's 2006-2011 Strategic Plan: Discovery, Learning, and Research Infrastructure.

Thursday, June 18, 2009

Welcome and Introductions; Charge to the Committee; and overview presentations on Foundation-wide issues in the context of performance assessment. The Committee, in subgroups, will analyze and assess accomplishments under the Discovery, Learning, and Research Infrastructure strategic outcome goals.

Friday, June 19, 2009

The NSF Director and/or Deputy Director will meet with the Committee. The Committee reconvenes as a Committee of the Whole to hear progress reports from the strategic goals' subgroups, discuss findings and conclusions, make recommendations, and complete preparation of the final report to NSF.

Dated: April 28, 2009.
Susanne Bolton,
Committee Management Officer.

[FR Doc. E9-10024 Filed 4-30-09; 8:45 am]

BILLING CODE 7555-01-P